DEPARTMENT OF HOMELAND SECURITY

Coast Guard

33 CFR Part 117

[Docket No. USCG-2014-0354]

Drawbridge Operation Regulation; Gulf Intracoastal Waterway, Venice, FL

ACTION: Notice of deviation from drawbridge regulation.

SUMMARY: The Coast Guard has issued a temporary deviation from the operating schedule that governs the Venice Avenue Bridge, Gulf Intracoastal Waterway, mile 56.6, Venice, FL. This temporary operating schedule will allow the bridge to not open to navigation including tugs with tows, during the Sarasota Iron Man Triathlon scheduled for the second Sunday of November, for the safety of the participants.

DATES: This deviation is effective from 7 a.m. to 10 a.m. November 8, 2014.

ADDRESSES: The docket for this deviation, [USCG-2014-0354] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions about this temporary deviation, call or email Ms. Danielle Mauser, Bridge Transportation Assistant, Seventh Coast Guard District, Bridge Branch; telephone 305-415-6946, email Danielle.L.Mauser2@uscg.mil. If you have questions about viewing the docket, call Cheryl Collins, Program Manager, Docket Operations, telephone 202-366-9826.

SUPPLEMENTARY INFORMATION: In order to accommodate the annual Sarasota Iron Man Triathlon, a temporary schedule deviation has been authorized for the Venice Avenue Bridge, across the Gulf Intracoastal Waterway, mile 56.6 in Venice, FL. This deviation is in effect from 7 a.m. to 10 a.m. on November 8, 2014. During this time, the bridge shall remain closed to navigation, including tugs with tows. Currently, the bridge opens as required per 33 CFR 117.287 (a-2), which states “the draw of the Venice Avenue bridge, shall open on signal, except that from 7 a.m. to 4:30 p.m., Monday through Friday except Federal holidays. The draw need open only at 10 minutes after the hour, 30 minutes after the hour and 50 minutes after the hour, except between 4:35 p.m. and 5:35 p.m.” The regulation changes may have a minor impact on vessels transiting the Gulf Intracoastal Waterway in the vicinity of Venice, FL, but will still meet the reasonable needs of navigation.

The Venice Avenue Bridge provides a vertical clearance of 30 feet at mean high water in the closed position and a horizontal clearance of 90 feet. Vessels able to pass through the bridge in the closed position may do so at anytime. The bridge will be able to open for emergencies. Also, vessels capable of using the Gulf of Mexico as an alternate route may do so in lieu of transiting the Gulf Intracoastal Waterway at mile 56.6 in Venice, FL from 7 a.m. to 10 a.m. November 8, 2014. The Coast Guard will inform users of the waterways through Local and Broadcast Notices to Mariners of the change in operating schedule for the bridge so that vessels can arrange transits to minimize any impact caused by the temporary deviation.

In accordance with 33 CFR 117.35(e), the drawbridge must return to its regular operating schedule immediately following the end of the effective period of this temporary deviation. This deviation from the normal operating regulations is authorized under 33 CFR 117.35.

Dated: August 15, 2014.
Barry Dragon,
Director, Bridge Administration, Seventh Coast Guard District.

[FR Doc. 2014-20539 Filed 8-28-14; 8:45 am]

BILLING CODE 9110-04-P